DEPARTMENT OF STATE

[Public Notice 8900]

U.S. Department of State Advisory Committee on Private International Law: Notice of Annual Meeting

The Department of State's Advisory Committee on Private International Law (ACPIL) will hold its annual meeting on Monday, November 3, 2014 in Washington, DC The meeting will be held at the Michael K. Young Faculty Conference Center, George Washington University Law School, 2000 H Street NW., Washington DC 20052. The program is scheduled to run from 9:00 a.m. to 5:00 p.m.

We expect that the discussion will focus on certain ongoing projects as well as the future of private international law. We encourage active participation by all those attending.

Please advise as early as possible if you plan to attend. The meeting is open to the public up to the capacity of the conference facility, and space will be reserved on a first come, first served basis. Persons who wish to have their views considered are encouraged, but not required, to submit written comments in advance. Those who are unable to attend are also encouraged to submit written views. Comments should be sent electronically to pil@state.gov. Those planning to attend should provide name, affiliation and contact information to pil@state.gov. You may also use those contacts to obtain additional information. A member of the public needing reasonable accommodation should notify us at pil@state.gov not later than October 20th. Requests made after that date will be considered, but might not be able to be fulfilled.

Dated: September 19, 2014.
John J. Kim,
Assistant Legal Adviser, Office of Private International Law, Office of the Legal Adviser, Department of State.

[FR Doc. 2014-23789 Filed 10-3-14; 8:45 am]

BILLING CODE 4710-08-P